DEPARTMENT OF TRANSPORTATION

Coast Guard

33 CFR Part 117

[CGD01-99-069]

RIN 2115-AE47

Drawbridge Operation Regulations; Newtown Creek, Dutch Kills, English Kills and Their Tributaries, NY

AGENCY: Coast Guard, DOT.

ACTION: Notice of proposed rulemaking.

SUMMARY: The Coast Guard proposes to change the operating rules for six New York City bridges; the Pulaski Bridge, at mile 0.6, across Newtown Creek between Brooklyn and Queens, the Greenpoint Avenue Bridge, at mile 1.3, across the Newtown Creek between Brooklyn and Queens, the Grand Street/Avenue Bridge, at mile 3.1, across Newtown Creek (East Branch) between Brooklyn and Queens, the Metropolitan Avenue Bridge, at mile 3.4, across English Kills at Brooklyn, the Borden Avenue Bridge, at mile 1.2, across Dutch Kills at Queens, and the Hunters Point Avenue Bridge, at mile 1.4, across Dutch Kills at Queens all in New York. The bridge owner asked the Coast Guard to change the regulations to require a two-hour advance notice for openings. It is expected to relieve the bridge owner from the requirement to crew the bridges at all times by using multiple crews of drawtenders and still meet the reasonable needs of navigation.

DATES: Comments must reach the Coast Guard on or before June 23, 2000.

ADDRESSES: You may mail comments and related material to Commander (obr), First Coast Guard District, Bridge Branch, at 408 Atlantic Avenue, Boston, MA 02110-3350, or deliver them to the same address between 7 a.m. and 3 p.m., Monday through Friday, except Federal holidays. The telephone number is (617) 223-8364. The First Coast Guard District, Bridge Branch, maintains the public docket for this rulemaking. Comments and material received from the public, as well as documents indicated in this preamble as being available in the docket, will become part of this docket and will be available for inspection or copying at the First Coast Guard District, Bridge Branch, 7 a.m. to 3 p.m., Monday through Friday, except, Federal holidays.

FOR FURTHER INFORMATION CONTACT: Mr. John McDonald, Project Officer, First Coast Guard District, (617) 223-8364.

SUPPLEMENTARY INFORMATION:

Request for Comments

We encourage you to participate in this rulemaking by submitting comments or related material. If you do so, please include your name and address, identify the docket number for this rulemaking (CGD01-99-069), indicate the specific section of this document to which each comment applies, and give the reason for each comment. Please submit all comments and related material in an unbound format, no larger than 8½ by 11 inches, suitable for copying. If you would like to know if they reached us, please enclose a stamped, self-addressed postcard or envelope. We will consider all comments and material received during the comment period. We may change this proposed rule in view of them.

Public Meeting

We do not now plan to hold a public meeting. But you may submit a request for a meeting by writing to the First Coast Guard District, Bridge Branch, at the address under ADDRESSES explaining why one would be beneficial. If we determine that one would aid this rulemaking, we will hold one at a time and place announced by a later notice in the Federal Register.

Background and Purpose

Pulaski Bridge. The Pulaski Bridge, at mile 0.6, across Newtown Creek between Brooklyn and Queens has a vertical clearance of 39 feet at mean high water and 43 feet at mean low water. The existing regulations require the draw to open on signal at all times.

Greenpoint Avenue Bridge. The Greenpoint Avenue Bridge, at mile 1.3, across the Newtown Creek between Brooklyn and Queens has a vertical clearance of 26 feet at mean high water and 31 feet at mean low water. The existing regulations require the draw to open on signal at all times.

Grand Street/Avenue Bridge. The Grand Street/Avenue Bridge, at mile 3.1 across the Newtown Creek (East Branch) between Brooklyn and Queens has a vertical clearance of 8 feet above mean high water and 12 feet at mean low water. The existing operating rules for the Grand Street/Avenue Bridge, listed at 33 CFR 117.801(e), requires the bridge to open on signal unless the drawtender is at the Borden Avenue, Hunters Point Avenue or Roosevelt Island Bridges. In this event a notice to the New York City Department of Transportation (NYCDOT) Radio Hotline, or NYCDOT Bridge Operations Office shall be given, resulting in up to a one-hour delay.

Metropolitan Avenue Bridge. The Metropolitan Avenue Bridge, at mile 3.4, across the English Kills at Brooklyn has a vertical clearance of 10 feet above mean high water and 15 feet above mean low water. The existing operating regulations require the draw to open on signal at all times.

Borden Avenue Bridge. The Borden Avenue Bridge, at mile 1.3, across the Dutch Kills has a vertical clearance of 4 feet at mean high water and 9 feet at mean low water. The existing regulations in 33 CFR 117.801(c) require the draw to open on signal if at least a one-hour advance notice is given to the drawtender at the Grand Street/Avenue Bridge, the New York City Department of Transportation Radio Hotline or NYCDOT Bridge Operations Office. In the event the drawtender is at the Roosevelt Island Bridge or the Hunters Point Avenue Bridge, up to an additional half-hour delay may occur.

Hunters Point Avenue Bridge. The Hunters Point Avenue Bridge, at mile 1.4, over the Dutch Kills has vertical clearances of 8 feet at mean high water and 13 feet at mean low water. The existing regulations for the Hunters Point Avenue Bridge in 33 CFR 117.801(d) require the draw to open on signal if at least a one-hour advance notice is given to the drawtender at the Grand Street/Avenue Bridge, the NYCDOT Radio Hotline, or NYCDOT Bridge Operations Office. In the event the drawtender is at the Roosevelt Island Bridge or the Borden Avenue Bridge, up to an additional half-hour delay may occur.

The owner of all the bridges, the New York City Department of Transportation (NYCDOT), submitted bridge opening log data to the Coast Guard for review. The bridge owner plans to operate these bridges with multiple crews of drawtenders. The two-hour advance notice should allow sufficient time for the crews to operate these bridges due to the close proximity of the bridges to each other. Recent yearly openings have been relatively low which will allow the bridge owner to utilize the roving crew concept and still meet the needs of navigation.

The total number of bridge openings at the above bridges from 1991 to 1999 are as follows:

| 1991 | 1992 | 1993 | 1994 | 1995 | 1996 | 1997 | 1998 | 1999
Pulaski | 584 | 426 | 224 | 239 | 206 | 195 | 291 | 518 | 550
Greenpt | 1014 | 880 | 587 | 549 | 498 | 557 | 626 | 920 | 1016
Grand | 419 | 549 | 224 | 254 | 239 | 189 | 37 | 86 | 91
Borden | 282 | 107 | 141 | 0 | 0 | 105 | 15 | 37 | 61
Hunters | 264 | 106 | 141 | 0 | 0 | 113 | 15 | 42 | 77
Metro | 301 | 356 | 225 | 310 | 272 | 407 | 432 | 588 | 688

The monthly distribution of openings for the above bridges were equally balanced without any specific months when opening requests were significantly greater.

Discussion of Proposal

This proposal, if adopted will relieve the bridge owner the burden of crewing each bridge continually, and still meet the reasonable needs of navigation. A two-hour advance notice requirement for bridge openings will enable the bridge owner to utilize multiple crews of drawtenders to open these bridges for vessel traffic. The Coast Guard believes the roving drawtender concept requiring a two-hour advance notice is reasonable and should meet the needs of navigation based upon the low number of yearly openings at the bridges, the close proximity of the bridges, and the scheduling of commercial vessel transits. The bridges will still open on signal at all times provided that the advance notice is given. This proposed rule is expected to relieve the bridge owner of the burden of crewing each bridge continually and still meet the reasonable needs of navigation.

The Coast Guard proposes to change the operating regulations for the Grand Street/Avenue Bridge, Borden Avenue Bridge, Hunters Point Bridge, Metropolitan Bridge, Pulaski Bridge and the Greenpoint Bridge, to require a two-hour advance notice for openings at all times.

Paragraph (a)(1) of 33 CFR 117.801 for public and state vessels used for public safety, will be removed because it is now set out at 33 CFR 117.31 under the general operating regulations for bridges.

Regulatory Evaluation

This proposed rule is not a “significant regulatory action” under section 3(f) of Executive Order 12866 and does not require an assessment of potential costs and benefits under 6(a)(3) of that Order. The Office of Management and Budget has not reviewed it under that Order. It is not significant under the regulatory policies and procedures of the Department of Transportation (DOT) (44 FR 11040, Feb. 26, 1979).

We expect the economic impact of this proposed rule to be so minimal that a full Regulatory Evaluation, under paragraph 10e of the regulatory policies and procedures of DOT, is unnecessary. This conclusion is based on the fact that the bridges will open for marine traffic but will require mariners to provide a two-hour notice.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under section 5 U.S.C. 605(b), that this proposed rule would not have a significant economic impact on a substantial number of small entities. This conclusion is based upon the fact that the bridges will still open on signal after a two-hour notice is given.

If you think that your business, organization, or governmental jurisdiction qualifies as a small entity and that this rule would have a significant economic impact on it, please submit a comment (see ADDRESSES) explaining why you think it qualifies and how and to what degree this rule would economically affect it.

Collection of Information

This proposed rule would call for no new collection of information under the Paperwork Reduction Act of 1995 (44 U.S.C. 3501-3520.).

Federalism

We have analyzed this proposed rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We considered the environmental impact of this proposed rule and concluded that, under figure 2-1, paragraph (32)(e), of Commandant Instruction M16475.1C, this proposed rule is categorically excluded from further environmental documentation because promulgation of drawbridge regulations have been found not to have a significant effect on the environment. A “Categorical Exclusion Determination” is available in the docket where indicated under ADDRESSES.

List of Subjects in 33 CFR Part 117

Bridges.

Regulations

For the reasons set out in the preamble, the Coast Guard proposes to amend 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. Section 117.801 is revised to read as follows:

§ 117.801 Newtown Creek, Dutch Kills, English Kills and their tributaries.

(a) The following requirements apply to all bridges across Newtown Creek, Dutch Kills, English Kills, and their tributaries:

(1) The owners of all bridges across Newtown Creek, Dutch Kills, English Kills and their tributaries listed under § 117.801, shall provide and keep in good legible condition two clearance gauges with figures not less than 12 inches high designed, installed and maintained according to the provisions of § 118.160 of this chapter.

(2) Trains and locomotives shall be controlled so that any delay in opening the draw shall not exceed five minutes. If a train moving toward the bridge has crossed the home signal for the bridge before the request to open the bridge is given, that train may continue across the bridge, but must clear the interlock before stopping.

(b) The draws of the Long Island Railroad bridges, at mile 1.1, across Dutch Kills at Queens, shall open on signal if at least six-hours advance notice is given to the Long Island Railroad Movement Bureau, except as provided in paragraph (a)(2) of this section.

(c) The draw of the Borden Avenue Bridge, mile 1.2, across Dutch Kills at Queens, shall open on signal if at least a two-hour advance notice is given to the New York City Department of Transportation (NYCDOT) Radio Hotline or NYCDOT Bridge Operations Office.

(d) The draw of the Hunters Point Avenue Bridge, mile 1.4, across Dutch Kills at Queens, shall open on signal if at least a two-hour advance notice is given to the New York City Department of Transportation (NYCDOT) Radio Hotline or the NYCDOT Bridge Operations Office.

(e) The draw of the Metropolitan Avenue Bridge, mile 3.4, across English Kills at New York City, shall open on signal if at least a two-hour advance notice is given to the New York City Department of Transportation (NYCDOT) Radio Hotline or the NYCDOT Bridge Operations Office.

(f) The draw of the Grand Street/Avenue Bridge, mile 3.1, across Newtown Creek (East Branch) between Brooklyn and Queens, shall open on signal if at least a two-hour advance notice is given to the New York City Department of Transportation (NYCDOT) Radio Hotline or the NYCDOT Bridge Operations Office.

(g) The draws of the Pulaski Bridge, mile 0.6, and the Greenpoint Avenue Bridge, mile 1.3, both across the Newtown Creek between Brooklyn and Queens, shall open on signal if at least a two-hour advance notice given to the New York City Department of Transportation (NYCDOT) Radio Hotline or NYCDOT Bridge Operations Office.

Dated: April 6, 2000.
G.N. Naccara,
Rear Admiral, U.S. Coast Guard Commander, First Coast Guard District.

[FR Doc. 00-10154 Filed 4-21-00; 8:45 am]

BILLING CODE 4910-15-U